DEPARTMENT OF THE INTERIOR

Bureau of Land Management

[WO220000.L10300000.PH0000; WO2200000.L63100000.PH0000; WO320000.L13300000.FW0000; OMB Control Number 1004-0001]

Agency Information Collection Activities; Submission to the Office of Management and Budget for Review and Approval; Free Use Application and Permit for Vegetative or Mineral Materials

AGENCY: Bureau of Land Management, Interior.

ACTION: Notice of information collection; request for comments.

SUMMARY: In accordance with the Paperwork Reduction Act of 1995, the Bureau of Land Management (BLM) is proposing to renew an information collection.

DATES: Interested persons are invited to submit comments on or before December 30, 2019.

ADDRESSES: Send written comments on this information collection request (ICR) to the Office of Management and Budget's Desk Officer for the Department of the Interior by email at OIRA_submission@omb.eop.gov; or via facsimile to (202) 395-5806. Please provide a copy of your comments to the BLM at U.S. Department of the Interior, Bureau of Land Management, 1849 C Street NW, Room 2134LM, Washington, DC 20240, Attention: Jean Sonneman, or by email to jesonneman@blm.gov. Please reference OMB Control Number 1004-0001 in the subject line of your comments.

FOR FURTHER INFORMATION CONTACT: To request additional information about this ICR, contact Chris Schumacher or Tim Barnes by email at c1schuma@blm.gov or tbarnes@blm.gov, or by telephone at 202-912-7433, or 541-416-6858 for vegetative, or mineral materials respectively. You may also view the ICR at http://www.reginfo.gov/public/do/PRAMain. Persons who use a telecommunication device for the deaf may call the Federal Relay Service at 1-800-877-8339, to leave a message for Mr. Schumacher or Mr. Barnes.

SUPPLEMENTARY INFORMATION: In accordance with the Paperwork Reduction Act of 1995, the BLM provides the general public and other Federal agencies with an opportunity to comment on new, proposed, revised and continuing collections of information. This helps to assess the impact of the BLM's information collection requirements and minimize the public's reporting burden. It also helps the public understand the BLM's information collection requirements and provides the requested data in the desired format. A Federal Register notice with a 60-day public comment period soliciting comments on this collection of information was published on June 11, 2019 (84 FR 27155). No comments were received.

We are again soliciting comments on the proposed ICR that is described below. The BLM is especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. The BLM will include or summarize each comment in our request to OMB to approve this ICR. Before including your address, phone number, email address, or other personal identifying information in your comment, you should be aware that your entire comment—including your personal identifying information—may be made publicly available at any time. While you can ask in your comment to the BLM to withhold your personal identifying information from public review, the BLM cannot guarantee that it will be able to do so.

The following information pertains to this request:

Abstract: Control Number 1004-0001 authorizes the BLM to collect information to continue the use of separate permit forms for the free use of vegetative materials and mineral materials.

Title of Collection: Free Use Application and Permit for Vegetative or Mineral Materials (43 CFR parts 3600, 3620, and 5510).

OMB Control Number: 1004-0001.

Form Numbers:

• 3604-1 a and b, Free Use Application and Permit for Mineral Materials; and

• 5510-1, Free Use Application and Permit for Vegetative Materials.

Type of Review: Extension of a currently approved collection.

Respondents/Affected Public: Individuals seeking authorization for free use of mineral or vegetative materials.

Description of Respondents: The Free use vegetative permits are available for Mining Claimants, Federal, State, Territorial agencies, municipalities and associations or corporations not organized for profit and that the materials are not used commercial or industrial purposes. Free Use Permits for Mineral Materials are available to any Federal, State, or territorial agency, unit, or subdivision including municipalities or any non-profit organization.

Total Estimated Number of Annual Respondents: 167 mineral materials applications; and 80 vegetative material applications.

Total Estimated Completion Time per Response: 30 minutes per response for mineral materials; 30 minutes per response for vegetative materials.

Total Estimated Number of Annual Burden Hours: 84 burden hours for mineral materials; and 40 burden hours for vegetative materials.

Frequency of Collection: On occasion.

Total Estimated Annual Nonhour Burden Cost: None.

An agency may not conduct or sponsor—and a person is not required to respond to—a collection of information unless it displays a currently valid OMB control number. The authority for this action is the Paperwork Reduction Act of 1995 (44 U.S.C. 3501 et seq.).

Chandra Little,
Bureau of Land Management, Regulatory Analyst.

[FR Doc. 2019-25956 Filed 11-27-19; 8:45 am]

BILLING CODE 4310-84-P